OVERSEAS PRIVATE INVESTMENT CORPORATION

Sunshine Act Meetings; Public Hearing

October 14, 2003.

OPIC's Sunshine Act notice of its public hearing was published in the Federal Register (Volume 68, Number 193, page 57716) on October 6, 2003. No requests were received to provide testimony or submit written statements for the record; therefore, OPIC's public hearing in conjunction with OPIC's October 15, 2003 Board of Directors meeting scheduled for 11 AM on October 14, 2003 has been cancelled.

FOR FURTHER INFORMATION CONTACT: Information on the hearing cancellation may be obtained from Connie M. Downs at (202) 336-8438, via facsimile at (202) 218-0136, or via email at cdown@opic.gov.

Dated: October 14, 2003.
Connie M. Downs,
OPIC Corporate Secretary.

[FR Doc. 03-26278 Filed 10-14-03; 11:45 am]

BILLING CODE 3210-01-M